Title 3—

The President

Presidential Determination No. 2003-35 of September 9, 2003

Presidential Determination with Respect to Foreign Governments' Efforts Regarding Trafficking in Persons

Memorandum for the Secretary of State

Consistent with section 110 of the Trafficking Victims Protection Act of 2000 (Division A of Public Law 106-386) (the “Act”), I hereby:

Make the determination provided in section 110(d)(1)(A)(ii) of the Act, with respect to Burma, Cuba, Liberia, North Korea, and Sudan, not to provide certain funding for those countries' governments for fiscal year 2004, until such a government complies with the minimum standards or makes significant efforts to bring itself into compliance, as may be determined by the Secretary of State in a report to the Congress pursuant to section 110(b) of the Act;

Make the determination provided in section 110(d)(3) of the Act, concerning the determinations of the Secretary of State with respect to Belize, Bosnia and Herzegovina, the Dominican Republic, Georgia, Greece, Haiti, Kazakhstan, Suriname, Turkey, and Uzbekistan;

Determine, consistent with section 110(d)(4) of the Act, with respect to Liberia, that provision to Liberia of the multilateral assistance described in section 110(d)(1)(B) of the Act would promote the purposes of the Act or is otherwise in the national interest of the United States; and

Determine, consistent with section 110(d)(4) of the Act, with respect to Sudan for all programs, projects, or activities of assistance as may be necessary to implement a peace accord, that provision to Sudan of the multilateral assistance described in section 110(d)(1)(B) of the Act for such programs, projects, or activities would promote the purposes of the Act or is otherwise in the national interest of the United States.

The certification required by section 110(e) of the Act is provided herewith.

You are hereby authorized and directed to submit this determination to the Congress, and to publish it in the Federal Register.

B

THE WHITE HOUSE,

September 9, 2003.

[FR Doc. 03-23602

Filed 9-12-03; 8:45 am]

Billing code 4710-10-P